DEPARTMENT OF ENERGY

Federal Energy Regulatory Commission

[Project No. 2165-015—Alabama Black Warrior River Project]

Alabama Power Company; Notice of Proposed Revised Restricted Service List for a Programmatic Agreement for Managing Properties Included in or Eligible for Inclusion in the National Register of Historic Places

October 22, 2002.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR Section 385.2010.

The Commission staff is consulting with the Alabama State Historic Preservation Officer (hereinafter, SHPO) and the Advisory Council on Historic Preservation (hereinafter, Council) pursuant to the Council's regulations, 36 CFR part 800, implementing Section 106 of the National Historic Preservation Act, as amended, (16 U.S.C. Section 470 f), to prepare and execute a programmatic agreement for managing properties included in, or eligible for inclusion in, the National Register of Historic Places at Project No. 2165-015.

The programmatic agreement, when executed by the Commission, the SHPO, and the Council, would satisfy the Commission's Section 106 responsibilities for all individual undertakings carried out in accordance with the license until the license expires or is terminated (36 CFR 800.13[e]). The Commission's responsibilities pursuant to Section 106 for the Black Warrior River Project would be fulfilled through the programmatic agreement, which the Commission proposes to draft in consultation with certain parties listed below. The executed programmatic agreement would be incorporated into any Order issuing a license.

Alabama Power Company, as licensee for Project No. 2165, and the Mississippi Band of Choctaw Indians, Jena Band of Choctaw Indians, Chickasaw Nation, Poarch Band of Creek Indians, U. S. Forest Service, U.S. Army Corp of Engineers, and the U.S. Bureau of Indian Affairs have expressed an interest in this preceding and are invited to participate in consultations to develop the programmatic agreement.

For purposes of commenting on the programmatic agreement, we propose to restrict the service list for the aforementioned project as follows:

Dr. Laura Henley Dean, Advisory Council on Historic Preservation The Old Post Office, Building, Suite 803, 1100 Pennsylvania Avenue, NW, Washington, DC 20004.

Amanda McBride or Representative, Alabama Historical Commission, 468 South Perry Street, Montgomery, Alabama 36130-0900.

Christine Norris, Tribal Historic Preservation Officer, Jena Band of Choctaw Indians, P.O. Box 14, Jena, LA 71342.

William Day, Tribal Historic Preservation Officer, Poarch Band of Creek Indians, 128 Olive St., Pineville, LA 71360.

Rena Duncan, Tribal Historic Preservation Officer, Chickasaw Nation, P.O. Box 1548, Ada, OK 74820.

Ken Carleton, Tribal Historic Preservation Officer, Mississippi Band of Choctaw Indians, P.O. Box 6257, Choctaw, MS 39350.

Dr. James Kardatzke, Bureau of Indian Affairs, Eastern Region Office, 711 Stewarts Ferry Pike, Nashville, TN 37214.

Elrand Denson or Representative, United States Forest Service, 2946 Chestnut St., Montgomery, AL 36107-3010.

Michael Eubanks, United States Army Corp of Engineers, 109 Saint Joseph St., Mobile, AL 36628.

Charles Gault, Esq., Office of Solicitor, 530 Gay St., Room 308, Knoxville, TN 37918.

Kelly Schaeffer, 6225 Brandon Avenue, Suite 110, Springfield, VA 22150.

Barry Lovett or Representative, Alabama Power Company, P.O. Box 2641, Birmingham, AL 35291.

We propose to remove the following person from the restricted service list for the aforementioned project because his interests will be taken into account through the Forest Service: Robert Pasquill, United States Forest Service, 2946 Chestnut St., Montgomery, AL 36107-3010.

Any person on the official service list for the above-captioned proceeding may request inclusion on the restricted service list, or may request that a restricted service list not be established, by filing a motion to that effect within 15 days of this notice date. In a request for inclusion, please identify the reason(s) why there is an interest to be included. Also please identify any concerns about Historic Properties, including Traditional Cultural Properties. If Historic Properties are to be identified within the motion, please use a separate page, and label it NON-PUBLIC Information.

An original and 8 copies of any such motion must be filed with Magalie Salas, the Secretary of the Commission (888 First Street, NE., Washington, DC 20426) and must be served on each person whose name appears on the official service list. If no such motions are filed, the restricted service list will be effective at the end of the 15 day period. Otherwise, a further notice will be issued ruling on any motion or motions filed within the 15 day period.

Linwood A. Watson, Jr.,
Deputy Secretary.

[FR Doc. 02-27456 Filed 10-28-02; 8:45 am]

BILLING CODE 6717-01-P